DEPARTMENT OF ENERGY

Federal Energy Regulatory Commission

[Docket Nos. ER02-1656-000 and ER02-1656-026]

California Independent System Operator Corporation; Supplemental Notice of Technical Conference

September 9, 2005.

As previously noticed, in accordance with the directive of the July 1, 2005 Order on Further Amendments to the California Independent System Operator's Comprehensive Market Redesign Proposal,¹ Federal Energy Regulatory Commission (Commission) staff will convene a technical conference to explore tariff issues related to demand response options, including special case nodal pricing and the establishment of zones for wholesale customers.²

¹ California Independent System Operator, Inc., 112 FERC ¶ 61,013 at P 39 (2005).

² See id. at P 37 (“[E]ach wholesale customer should have the option of establishing, as a separate zone, the set of nodes where it receives energy).

The conference will be open to the general public, but priority to participate will be given to parties in the above-captioned docket. The technical conference will be held in San Francisco, California, on Tuesday, September 13, 2005, at 9:00 a.m. (PST) at the Renaissance Parc 55 Hotel, 55 Cyril Magnin Street, San Francisco, California 94102; (415) 392-8000.

For further information, contact Heidi.Werntz@FERC.gov; (202) 502-8910.

Magalie R. Salas,
Secretary.

[FR Doc. E5-5058 Filed 9-15-05; 8:45 am]

BILLING CODE 6717-01-P